DEPARTMENT OF AGRICULTURE

Farm Service Agency

Commodity Credit Corporation

Office of The Secretary; Privacy Act of 1974; System of Records

AGENCY: Department of Agriculture, USDA.

ACTION: Notice of a modified system of records.

SUMMARY: This notice proposes to revise to the Privacy Act System of Records titled Farm Records File (Automated) USDA, which includes information for certain Farm Service Agency under (FSA) Farm Programs and certain Commodity Credit Corporation (CCC) programs that are administered by FSA on behalf of CCC. The records include information about the majority of agricultural producers in the United States. In general, USDA is modifying the system of records to add three new routine uses and make updates to one routine use to comply with recent requirements.

DATES:

Comment Date: We will consider comments that we receive by April 22, 2019. The notice is applicable upon publication, and still subject to a 30-day comment period for the new routine uses.

Effective Date: May 1, 2019.

ADDRESSES: We invite you to submit comments on this notice. In your comment, include the system of records number (USDA/FSA-2), and include the volume, date, and page number of this issue of the Federal Register. You may submit comments by any of the following methods:

• Federal e-Rulemaking Portal: Go to http://www.regulations.gov. Follow the instructions for submitting comments.

• Mail, hand delivery, or courier: USDA, Farm Production and Conservation, Farm Service Agency, STOP 0508, 1400 Independence Ave. SW, Washington, DC 20250-0508.

Comments will be available for viewing online at http://www.regulations.gov. In addition, comments will be available for public inspection at the above address during business hours from 8 a.m. to 5 p.m., Monday through Friday, except holidays.

FOR FURTHER INFORMATION CONTACT: Philip Buchan, (301) 504-1701, Philip.Buchan@wdc.usda.gov. Persons with disabilities or who require alternative means for communication should contact the U.S. Department of Agriculture (USDA) Target Center at (202) 720-2600 (voice).

SUPPLEMENTARY INFORMATION: USDA maintains the Farm Records File (Automated), USDA/FSA-2 Privacy Act system of records to collect and manage information about the majority of agricultural producers in the United States. The mission of FSA is to deliver federal farm program benefits and loans to farm and ranch owners and operators to support farms and ranches, protect the environment, and enhance the marketing of agricultural products. The system of records covers information regarding current, former, and prospective producers or landowners, farm and ranch owners, operators, tenants, applicants, borrowers, cooperators, partner organizations, and other participants in certain FSA Farm Programs and certain CCC programs that are administered by FSA on behalf of CCC. The last revision of Farm Records File (Automated), USDA/FSA-2, was published in the Federal Register on March 14, 2012 (77 FR 15026-15033).

To ensure compliance with all applicable federal laws, USDA is modifying one routine use and adding three new routine uses. USDA is also expanding the types of individuals in the categories of the individuals covered in this system of records. FSA is also replacing the list of specific automated processing systems in the system of records by referring the public to the FSA website for the current automated processing systems. The one revised and three new routine uses are discussed below.

USDA is also making changes throughout the system of records notice for required updates to comply with OMB Circular A-108, Federal Agency Responsibilities for Review, Reporting, and Publication under the Privacy Act. USDA has made changes to the sections of authority for maintenance of the system, and policies and practices for storage of records. USDA removed the section of disclosure to consumer reporting agencies from the system of record notice and the section of storage is now policies and practices for storage of records.

Revised Routine Use E

FSA is revising routine use E to conform to OMB Memorandum M-17-12, Preparing for and Responding to a Breach of Personally Identifiable Information, issued on January 3, 2017, which updated agency routine use requirements for the disclosure of information necessary to respond to a breach of the agency's personally identifiable information.

Proposed New Routine Use DD

FSA is adding new routine use DD to establish that FSA will disclose records to the Department of Housing and Urban Development in support of Credit Alert Verification Reporting System (CAIVRS). CAIVRS is a federal government database of delinquent federal debtors that when reviewed, allows federal agencies to reduce the risk to federal loan and loan guarantee programs. CAIVRS alerts participating federal lending agencies when an applicant for credit benefits has a federal lien, judgment, or a federal loan that is currently in default or foreclosure, or has had a claim paid by a reporting agency. CAIVRS allows authorized employees of participating federal agencies to access a database of delinquent federal borrowers for the purpose of pre-screening direct loan applicants for credit worthiness and also permits approved private lenders acting on behalf of the federal agency to access the delinquent borrower database for the purpose of pre-screening the credit worthiness of applicants for federally guaranteed loans. CAIVRS authority derives from the Computer Matching and Privacy Protection Act of 1988 (Pub. L. 100-503), as amended; Office of Management and Budget (OMB) Circular A-129 (Revised January 2013) Policies for Federal Credit Programs and Non-Tax Receivables; the Budget and Accounting Acts of 1921 and 1950, as amended; the Debt Collection Act of 1982, as amended; the Deficit Reduction Act of 1984, as amended; and, the Debt Collection Improvement Act of 1996, as amended.

Proposed New Routine Use EE

FSA is adding new routine use EE to establish that FSA will disclose records to the Department of the Treasury in support of the Do Not Pay Program. In order to help eliminate waste, fraud, and abuse in federal programs, federal agencies are required to prevent payment errors before they occur. The purpose of the Do Not Pay Program is to reduce improper payments by intensifying efforts to eliminate payment error, waste, fraud, and abuse in the major programs administered by the Federal Government, while continuing to ensure that federal programs serve and provide access to their intended beneficiaries. Federal agencies will do a thorough review of the Do Not Pay computer matching database, to the extent permitted by law, to determine applicant eligibility before the release of any federal funds. By checking the Do Not Pay database before making payments, federal agencies can identify ineligible recipients and prevent certain improper payments from being made. The Do Not Pay program authority is from the Improper Payments Elimination and Recovery Improvement Act of 2012 (Pub. L. 112-248).

Proposed New Routine Use FF

FSA is adding new routine use FF to conform to OMB Memorandum M-17-12, Preparing for and Responding to a Breach of Personally Identifiable Information, issued on January 3, 2017. Routine Use FF establishes that FSA will disclose the records when needed to assist another Federal agency or Federal entity in its response to a breach of personally identifiable information.

Privacy Act

As required by the Privacy Act (specifically 5 U.S.C. 552a(r)) and implemented by the Office of Management and Budget (OMB) Circular A-108, Federal Agency Responsibilities for Review, Reporting, and Publication under the Privacy Act, USDA provided a report of this system of records to the Office of Information and Regulatory Affairs, Office of Management and Budget; the Chairman, Committee on Government Reform and Oversight, House of Representatives; and, the Chairman, Committee on Governmental Affairs, United States Senate.

Richard Fordyce,
Administrator, Farm Service Agency.
Thomas W. Christensen,
Acting Executive Vice President,Commodity Credit Corporation.

SYSTEM NAME AND NUMBER:

Farm Records File (Automated), USDA/FSA-2.

SECURITY CLASSIFICATION:

Unclassified.

SYSTEM LOCATION:

This system of records is under the control of the Deputy Administrator for Farm Programs, Farm Service Agency (FSA), 1400 Independence Avenue SW, Stop 0539, Washington, DC 20250-0539.

Records are maintained at the FSA county offices, the FSA State offices, the FSA National office, the FSA Aerial Photography Field Office, and the USDA National Information Technology Center. The address of each FSA county office and FSA State office can be found in the local telephone directory under the heading “United States Government, Department of Agriculture, Farm Service Agency.” The FSA Aerial Photography Field Office is located in Salt Lake City, UT. The USDA National Information Technology Center is located in Kansas City, MO.

SYSTEM MANAGER(S):

Bill Beam, Deputy Administrator for Farm Programs, FSA, 1400 Independence Avenue SW, Stop 0539, Washington, DC 20250-0539; bill.heam@usda.gov; (202) 720-9875.

AUTHORITY FOR MAINTENANCE OF THE SYSTEM:

44 U.S.C. 2104, 44 U.S.C. Chapter 3118, U.S.C. 2071, 18 U.S.C. 641, and 36 CFR Chapter XII, Subchapter B.

PURPOSE(S) OF THE SYSTEM:

To deliver Federal farm program benefits and loans that are authorized by law to farm and ranch owners and operators to support farms and ranches, protect the environment, and enhance the marketing of agriculture products.

CATEGORIES OF INDIVIDUALS COVERED BY THE SYSTEM:

Current, former, and prospective producers or landowners, farm and ranch owners, operators, tenants, applicants, borrowers, cooperators, representatives of partner organizations, entity members and other FSA agricultural production program participants.

CATEGORIES OF RECORDS IN THE SYSTEM:

The information in the system of records consists of electronic and hard copy documentation of participation in FSA programs, including active programs as well as discontinued programs. This includes names and addresses of producers and also includes, but is not necessarily limited to:

• Farm allotments, quotas, bases, and history;

• Compliance data; producer entity data;

• Combined producer data;

• Production and marketing data;

• Lease and transfer of allotments and quotas;

• Appeals;

• New grower applications;

• Conservation program documents;

• Program participation and payment documents; including information related to a person's indirect interest in payments through shares or interest in a payee entity;

• Appraisals, leases, and data for farm reconstitution; and

• For payment limitation and conservation compliance purposes, financial statements, and other applicable farm information such as tax statements, wills, trusts, partnership agreements, and corporate charters.

The geospatial (GIS) data set, containing producer boundaries of Common Land Units (CLUs), farms, tracts, field identifiers and attributes is used to identify the location of land that can be traced back to a producer's crops and benefits. By definition, a CLU identifies a farm's subdivisions and boundaries and is recommended as the common location identifier for reporting acreage. The GIS Crop Reporting Layer, consisting of tabular crop acreage data and including producer share, is the location of land where a crop is planted, and crop acreage compliance data.

Digital renditions of farm record boundaries include farm, tract, CLUs (fields), and personal attributes of that property such as, but not limited to, cropland designation, wetland location, program participation designation (for example, Conservation Reserve Program), and presence of structures located on a property (for example, buildings, well heads, or other identifying structures). Crop Acreage Data is used to promote a viable agriculture economy essential to effectively administering and enforcing the national crop insurance program and for the purpose of fulfilling loss adjustment obligations as well as audits and reviews of claims.

A listing of the automated systems processing the records (that is, the FSA Systems Inventory Book) may be found through a search on the USDA-Farm Service Agency Home Page (http://www.fsa.usda.gov). The FSA Systems Inventory Book is a detailed reference guide, sourced from the FSA Systems Inventory, which compiles descriptive data and characteristics pertaining to each system, sub-system, and component; organized by Investment Number. The FSA Systems Inventory Book is prepared to provide additional information including the nature and character of the programs themselves, including the overall Information Technology (IT) environment of systems, subsystems, and components supporting them. The FSA Systems Inventory Book helps tie business and applications or systems and infrastructure back to their reason for existence—supporting the mission of FSA.

The FSA Systems Inventory Book also maintains information about inactive, retired, and transferred systems; summary of systems listed by office; and current IT Investment listing. It is updated and published twice a year, with a wide distribution to FSA employees, contractors, and both Government and non-Government visitors.

RECORD SOURCE CATEGORIES:

Information in this system of records is submitted by FSA State and county committees and their representatives, the Office of Inspector General and other investigatory agencies, the Office of the General Counsel, the Natural Resources and Conservation Service, by third parties, and by the individual who is the subject of the record.

ROUTINE USES OF RECORDS MAINTAINED IN THE SYSTEM, INCLUDING CATEGORIES OF USERS AND THE PURPOSES OF SUCH USES:

Records or information contained in this system of records may be disclosed outside USDA as a routine use (see 5 U.S.C. 552a(b)(3)) as follows:

A. To the Department of Justice when:

1. USDA or any part of USDA;

2. Any USDA employee in an official capacity if the Department of Justice has agreed to represent the employee; or

3. The United States Government is a party to litigation or has an interest in such litigation, and by careful review, USDA determines that the records are both relevant and necessary to the litigation and the use of such records by the Department of Justice is therefore deemed by USDA to be for a purpose that is compatible with the purpose for which FSA collected the records.

B. To a Member of Congress or to a Congressional staff member in response to a request of the Congressional office made at the written request of the constituent about whom the record is maintained.

C. To the National Archives and Records Administration or to the General Services Administration, for records management inspections conducted as specified in 44 U.S.C. 2904 and 2906.

D. To an agency, organization, or individual for the purpose of performing audit or oversight operations as authorized by law, but only such information as is necessary and relevant to the specific audit or oversight.

E. To appropriate agencies, entities, and persons when:

1. USDA suspects or has confirmed that there has been a breach of the system of records;

2. USDA has determined that as a result of the suspected or confirmed breach there is a risk of harm to individuals, USDA (including its information systems, programs, and operations), the Federal Government, or national security; and

3. The disclosure made to such agencies, entities, and persons is reasonably necessary to assist in connection with USDA's efforts to respond to the suspected or confirmed breach or to prevent, minimize, or remedy such harm.

F. To contractors, grantees, experts, consultants, and their agents, and others performing or working on a contract, grant, cooperative agreement, or other assignment for USDA, when necessary to accomplish a USDA function related to this system of records. Individuals provided information under this routine use are subject to the same Privacy Act requirements and limitations on disclosure as are applicable to USDA officers and employees.

G. When a record on its face, or in conjunction with other records, indicates a violation or potential violation of law, whether civil, criminal, or regulatory in nature, and whether arising by general law or particular program law, or by regulation, rule, or order issued as a result of that law, disclosure may be made to the appropriate agency, whether federal, foreign, State, local, or Tribal, or other public authority responsible for enforcing, investigating, or prosecuting such violation or charged with enforcing or implementing the law, or rule, regulation, or order issued as a result of that law, if the information disclosed is relevant to any enforcement, regulatory, investigative, or prosecutive responsibility of the receiving entity.

H. To a cooperative marketing association (CMA), designated marketing association (DMA), or loan servicing agent (LSA) approved to carry out Commodity Credit Corporation (CCC) price support loan and marketing programs, which are administered by FSA on behalf of CCC. Records that will be disclosed include only data that is necessary for the CMA, DMA, or LSA to make producer eligibility determinations, reasonable quantity determinations, producer payment limitations, and denied benefit determinations.

I. To the Internal Revenue Service to establish the tax liability of individuals as required by the Internal Revenue Code.

J. To State or local tax authorities having an agreement with CCC to withhold taxes or fees from loan proceeds.

K. To the Department of Interior, Bureau of Reclamation (BOR), but only that data necessary for the BOR to administer the Reclamation Act of 1982, as amended.

L. To boards or other entities authorized by State law to collect commodity assessments.

M. To the Peanut Board, with respect to producers of peanuts and their participation in the peanut price support program.

N. To the Department of Interior, Bureau of Indian Affairs, the name and correspondence address of producers to assist in the distribution of funds to Native American Indians.

O. To candidates for FSA county committee positions, the names and correspondence addresses of producers in the county for the purpose of county committee elections.

P. To the public, farm allotment and quota data for marketing quota crops, as allowed by the Agricultural Act of 1938, as amended, and payment information for farm and related programs including information of indirect benefits from payments as indicated by shares of each individual or entity that receive payments or that themselves are considered to have an indirect interest in payments.

Q. To State Foresters, the names and correspondence addresses of producers and crop-specific data regarding their operations with respect to forestry conservation practices.

R. To cotton buyers, the name and correspondence address of cotton producers.

S. To cotton ginners, the names, correspondence addresses, farm numbers, cotton yields, and cotton acreages of cotton producers.

T. To members of Congress, the names and correspondence addresses of all producers in the system of records.

U. To the public when they need to obtain the names and correspondence addresses of producers who have commodity loans with FSA or CCC to prevent one of those producers from purchasing a commodity that has been placed under a CCC loan.

V. To State or local taxing authorities or their contracted appraisal companies, the name and correspondence address of producers for tax appraisal purposes.

W. To State-certified or State-licensed appraisers and employees of federal agencies qualified to perform and actually performing real estate appraisals for USDA. Records that will be disclosed include only the data that is necessary for the appraiser to complete the appraisal.

X. To cooperating persons or federal, State, local, or Tribal agencies working in cooperation with the Secretary in any USDA program. Records that will be disclosed include only the data that is necessary for the cooperating person or agency to complete work on the USDA program.

Y. To any federal agency or any approved insurance provider (AIP), the information collected using the Comprehensive Information Management System (CIMS) used to administer the programs of the Federal Crop Insurance Corporation (FCIC) and FSA as specified in 7 U.S.C. 8002(b)(2). All information disclosed to CIMS may be further disclosed to any contractor engaged in the development or maintenance of CIMS. Select CIMS data may also be further disclosed to AIPs and AIP employees, insurance agents, and loss adjusters, but will be limited to only the producer reported information that is associated with a given AIP's insured producers and that insured producer's farming operations (for data to be disclosed, the producer must actually be insured by the given AIP). For the disclosure of CLU information, CIMS will provide the AIP a limited file of CLU information containing data elements for those States in the AIP plan of operation to include Shape, (CLU boundaries), Location State Code, Location County Code, Administrative State Code, Administrative County Code, CLU Number, CLU Calculated Acres, CLU Class, Last Change Date, Common Land Unit Identifier, Farm Number, Tract Number, and Field Number information. The limited CLU data set provided to the AIP will not contain data reported to FSA by the producer via the FSA-578, “Report of Acreage” (for example, planted acres, name, address, crops, etc.).

Z. To any federal agency or any AIP, the information in the USDA data warehouse and data mining operation collected as authorized by the Agricultural Risk Protection Act of 2000 (7 U.S.C. 1515(j)). All information disclosed to the USDA data warehouse and data mining operation may be further disclosed to any contractor engaged in the development or maintenance of the USDA data warehouse and data mining operation. Select data may also be further disclosed to AIPs and AIP employees, insurance agents, and loss adjusters. Disclosure is limited to only the producer reported information that is associated with a given AIP's insured producers and that insured producer's farming operations (for data to be disclosed, the producer must actually be insured by the given AIP).

AA. To the AIPs (excluding the AIP's insurance agents) and loss adjusters. USDA will disclose records that may include the producer's name, crop name, FSA county office address, program years, and the last 4 digits of producer's tax ID number. USDA may disclose a copy of both current and prior Producer Print and Map Photocopies, Farm Operating Plan for Payment Eligibility Review for an Individual, Highly Erodible Land Conservation (HELC), and Wetland Conservation (WC) Certification. Disclosure will be made only in response to a properly submitted request for certain information.

BB. USDA will disclose information about individuals from this system of records in accordance with the Federal Funding Accountability and Transparency Act of 2006 (31 U.S.C. 6101-6106); section 204 of the E-Government Act of 2002 (44 U.S.C. 3501 note), and the Office of Federal Procurement Policy Act (41 U.S.C. 403-440), or similar laws requiring agencies to make available publicly names, locations, and other information concerning federal financial assistance, including grants, subgrants, loan awards, cooperative agreements, and other financial assistance; and contracts, subcontracts, purchase orders, task orders, and delivery orders.

CC. To a court or adjudicative body in a proceeding when:

1. USDA or any part of USDA;

2. Any USDA employee in an official capacity;

3. Any USDA employee in an individual capacity if USDA has agreed to represent the employee; or

4. The United States Government is a party to litigation or has an interest in such litigation, and by careful review, USDA determines that the records are both relevant and necessary to the litigation and the use of such records is therefore deemed by USDA to be for a purpose that is compatible with the purpose for which FSA collected the records.

DD. Information may be disclosed to federal agencies pursuant to the Debt Collection Improvement Act and related authorities for any purpose related to debt collection, including locating debtors for debt collection efforts and/or effecting remedies against monies payable to such debtors by the Federal Government. In accordance with computer matching or data sharing programs, information may be disclosed to federal agencies, the Department of Housing and Urban Development for the purpose of evaluating a loan applicant's creditworthiness, information that will allow for the pre-screening of applicants through the Credit Alert Verification Reporting System (CAIVRS) computer matching program. An applicant will be pre-screened for any debts owed or loans guaranteed by the Federal Government to ascertain if the applicant is delinquent in paying a debt owed to or insured by the Federal Government. Authorized employees of, and approved private lenders acting on behalf of, the federal agencies participating in the CAIVRS computer matching program will be able to search the CAIVRS database. The disclosure may include the applicant's name, home address, Social Security Number, and income or financial information.

EE. To the Department of Treasury for administering the Do Not Pay Initiative under the Improper Payments Elimination and Recovery Improvement Act of 2012 (IPERIA). As required by IPERIA and the Bipartisan Budget Act of 2018, records maintained in this system will be disclosed to, (1) a Federal or state agency, its employees, agents (including contractors of its agents) or contractors; (2) a fiscal or financial agent designated by the Bureau of the Fiscal Service or other Department of the Treasury bureau or office, including employees, agents or contractors of such agent; or (3) a contractor of the Bureau of the Fiscal Service, for the purpose of identifying, preventing, and recovering improper payments to an applicant for, or recipient of, Federal funds, including funds disbursed by a state in a state-administered, federally-funded program. Records disclosed under this routine use may be used to conduct computerized comparisons to identify, prevent and recover improper payments, and to identify and mitigate fraud, waste and abuse in federal payments.

FF. To another Federal agency or Federal entity, when USDA determines that information from this system of records is reasonably necessary to assist the recipient agency or entity in (1) responding to a suspected or confirmed breach or (2) preventing, minimizing, mitigating, or remedying the risk of harm to individuals, the recipient agency or entity (including its information systems, programs, and operations), the Federal Government, or national security, resulting from a suspected or confirmed breach.

POLICIES AND PRACTICES FOR STORAGE OF RECORDS:

Records in this system of records are stored electronically on security measure protected (for example, e-authentication, password, restricted access protocol, etc.) databases, electronically on e-media devices (computer hard drive, magnetic disc, tape, digital media, CD, DVD, etc.), and on paper copy. Record storage is located within secured or locked facilities.

See also “Policies and Practices for Retrieval of Records”, “Policies And Practices For Retention And Disposal Of Records”, “Administrative, Technical, and Physical Safeguards”, “Record Access Procedure” and “Notification Procedures” below.

POLICIES AND PRACTICES FOR RETRIEVAL OF RECORDS:

Records may be retrieved by the individual's name, Social Security Number, tax identification number, loan number, and farm number.

POLICIES AND PRACTICES FOR RETENTION AND DISPOSAL OF RECORDS:

Records are maintained in file folders and Department computer systems at applicable locations as set out above under the heading “System Location.” Detailed retention and disposal instructions are provided in Records Control Schedule RG 0145: Farm Service Agency and Records Control Schedule RG 0161: Commodity Credit Corporation.

ADMINISTRATIVE, TECHNICAL, AND PHYSICAL SAFEGUARDS:

Records in this system of records are safeguarded in accordance with applicable rules and policies, including all applicable USDA automated systems security and access policies. Strict controls have been imposed to minimize the risk of compromising the information that is being stored. Access to the computer systems containing the records in this system of records is limited to those individuals who have a need to know the information for the performance of their official duties and who have appropriate clearances or permissions.

RECORDS ACCESS PROCEDURE:

To request notification of and access to any record contained in the system of records, or to contest the content of a record, submit a request in writing to the FSA FOIA officer or the FOIA officer for the relevant part of USDA responsible for your information (FIOA contact information is at http://www.da.usda.gov/foia.htm. If you believe more than one USDA agency maintains Privacy Act records concerning you, submit the request to the Chief FOIA Officer, Department of Agriculture, 1400 Independence Avenue SW, Washington, DC 20250.

When seeking records about yourself from this system of records or any other Departmental system of records, your request must conform with the Privacy Act regulations in 7 CFR 1.110-1.122, as follows. Verify your identity by providing your:

• Full name,

• Current address, and

• Date and place of birth.

You must sign your request, and your signature must either be notarized or submitted under 28 U.S.C. 1746, which is a law that permits statements to be made under penalty of perjury as a substitute for notarization. While no specific form is required, you may obtain forms for this purpose from the Chief FOIA Officer, Department of Agriculture, 1400 Independence Avenue SW, Washington, DC 20250. In addition, you should provide the following:

• Explain why you believe USDA would have information on you,

• Identify which USDA agency you believe may have the information about you,

• Specify when you believe the records would have been created, and

• Provide any other information that will help the FOIA staff determine which USDA component agency may have responsive records.

If your request is seeking records pertaining to another living individual, you must include a statement from that individual certifying agreement for you to access the records.

If your request does not include the information specified above, FSA may not be able to conduct an effective search, and may result in your request being denied due to lack of specificity or lack of compliance with applicable regulations.

CONTESTING RECORD PROCEDURES:

Individuals desiring to contest or amend information maintained in the system should direct their request to the above listed System Manager and should include the reason for contesting it and the proposed amendment to the information with supporting information to show how the record is inaccurate. A request for contesting records pertaining to an individual should contain:

• Name,

• Address,

• ZIP code,

• Name of system of record,

• Year of records in question, and

• Any other pertinent information to help identify the file.

NOTIFICATION PROCEDURE:

An individual may request information regarding this system of records or information as to whether the system contains records pertaining to the individual from the System Manager above.

EXEMPTIONS PROMULGATED FOR THE SYSTEM:

None.

HISTORY:

The prior document for this system of record was published on March 14, 2012 (77 FR 15026).

[FR Doc. 2019-05466 Filed 3-21-19; 8:45 am]

BILLING CODE 3410-05-P